ADVISORY COUNCIL ON HISTORIC PRESERVATION

36 CFR Part 800

RIN 3014-AA06

Protection of Historic Properties

AGENCY: Advisory Council on Historic Preservation.

ACTION: Proposed rule; extension of comment period.

SUMMARY: The Advisory Council on Historic Preservation is extending by 30 days the public comment period for the proposed amendments to the regulations implementing Section 106 of the National Historic Preservation Act. Such proposed amendments were published in the Federal Register on September 25, 2003. This extended comment period will afford greater opportunity to all interested parties to review and submit comments on the proposal.

DATES: Comments must be received on or before November 26, 2003.

ADDRESSES: Address all comments concerning this proposed rule to the Executive Director, Advisory Council on Historic Preservation, 1100 Pennsylvania Avenue, NW., Suite 809, Washington, DC 20004. Fax (202) 606-8672. You may submit electronic comments to: achp@achp.gov. For electronic comments, please type “Regs Amendment 2003” in the subject line of the e-mail.

FOR FURTHER INFORMATION CONTACT: Javier Marqués, Advisory Council on Historic Preservation, 1100 Pennsylvania Avenue, NW., Suite 809, Washington, DC 20004; (202) 606-8503.

SUPPLEMENTARY INFORMATION: In response to requests filed with the Advisory Council on Historic Preservation (ACHP), the comment period for the proposed amendments to the regulations implementing Section 106 of the National Historic Preservation Act now ends on November 26, 2003. This is an extension of 30 days beyond the comment period established in the Federal Register on September 25, 2003.

The Section 106 regulations set forth how Federal agencies take into account the effects of their undertakings on historic properties and afford the ACHP a reasonable opportunity to comment, pursuant to Section 106 of the National Historic Preservation Act. Most of the proposed amendments to those regulations respond to recent court decisions which held that (1) the ACHP could not force a Federal agency to change its determinations regarding whether its undertakings affected or adversely affected historic properties, and (2) that Section 106 does not apply to undertakings that are merely subject to State or local regulation administered pursuant to a delegation or approval by a Federal agency. Another proposed amendment clarifies the time period for objections to “No Adverse Effect” findings. The last proposed amendments clarify that the ACHP can propose an exemption to the Section 106 process on its own initiative, rather than needing a Federal agency to make such a proposal. See the proposal as published in the Federal Register (68 FR 55354, September 25, 2003) for further information.

Dated: October 20, 2003.
John M. Fowler,
Executive Director.

[FR Doc. 03-26799 Filed 10-22-03; 8:45 am]

BILLING CODE 4310-10-P